DEPARTMENT OF ENERGY

Federal Energy Regulatory Commission

Notice of Effectiveness of Exempt Wholesale Generator or Foreign Utility Company Status

| Docket Nos.
Duke Energy Beckjord Storage, LLC | EG15-11-000
Samchully Power & Utilities 1 LLC | EG15-12-000
Chief Conemaugh Power, LLC | EG15-15-000
Chief Keystone Power, LLC | EG15-16-000
Kay Wind, LLC | EG15-17-000
Spinning Spur Wind Three, LLC | EG15-18-000
Green Pastures Wind, II, Inc | EG15-19-000
Briscoe Wind Farm, LLC | EG15-20-000
Sierra Solar Greenworks LLC | EG15-21-000
Rising Tree Wind Farm III LLC | EG15-22-000
NiGen, LLC | EG15-23-000
Stephens Ranch Wind Energy II, LLC | EG15-24-000
Milo Wind Project, LLC | EG15-25-000
Roosevelt Wind Project, LLC | EG15-26-000
KMC Thermo, LLC | EG15-27-000
Verso Bucksport Power LLC | EG15-31-000
Verso Bucksport LLC | EG15-32-000
Alterna Springerville LLC | EG15-33-000
LDVF1 TEP LLC | EG15-34-000
Los Vientos Windpower III, LLC | EG15-35-000
Enbridge Massif du Sud Wind Project GP Inc | FC15-2-000
Enbridge Saint Robert Bellarmin Wind Project GP I | FC15-3-000
FuelCell Energy, Ltd | FC15-4-000

Take notice that during the months of January and February 2015, the status of the above-captioned entities as Exempt Wholesale Generators or Foreign Utility Companies became effective by operation of the Commission's regulations. 18 CFR 366.7(a).

Dated: March 12, 2015.
Kimberly D. Bose,
Secretary.

[FR Doc. 2015-06205 Filed 3-18-15; 8:45 am]

BILLING CODE 6717-01-P